DEPARTMENT OF THE INTERIOR

National Park Service

[2253-65]

Notice of Intent To Repatriate a Cultural Item: U.S. Department of the Interior, Bureau of Indian Affairs, Washington, DC and Arizona State Museum, University of Arizona, Tucson, AZ

AGENCY: National Park Service, Interior.

ACTION: Notice.

Notice is here given in accordance with the Native American Graves Protection and Repatriation Act (NAGPRA), 25 U.S.C. 3005, of the intent to repatriate a cultural item in the control of the U.S. Department of the Interior, Bureau of Indian Affairs, Washington, DC, and in the physical custody of the Arizona State Museum, University of Arizona, Tucson, AZ, that meets the definition of sacred object and object of cultural patrimony under 25 U.S.C. 3001.

This notice is published as part of the National Park Service's administrative responsibilities under NAGPRA, 25 U.S.C. 3003(d)(3). The determinations in this notice are the sole responsibility of the museum, institution, or Federal agency that has control of the cultural item. The National Park Service is not responsible for the determinations in this notice.

The cultural item is a medicine bundle, consisting of a sack made from the hide of a small mammal, which contains a necklace composed of large animal claws and shells, one separate large animal claw, two crystals wrapped in fiber, two shell pendants and one bead on a string, one projectile point, one stone disk, one shell disk, one hide bundle containing a reddish-orange mineral, two tied bundles with undetermined contents, and two empty hide bundles. In 1931, the item was recovered at Broken Flute Cave, AZ E:8:1(ASM), located on the Navajo Indian Reservation, in Apache County, AZ, during excavations conducted by the Carnegie Institution of Washington under the direction of Earl Morris. The item was transferred from the Carnegie Institution to the Arizona State Museum in 1957.

Consultations with representatives of the Navajo Nation have identified the object as a Navajo jish (Medicine Bundle) used in the Hóchó'íjí (Evil Way Ceremony). The identification is supported by detailed information provided by traditional Navajo religious practitioners regarding the use and origin of the object and its contents.

The Navajo people believe that jish are alive and must be treated with respect. The primary purpose of the jish is to cure people of diseases, mental and physical illness, and to restore beauty and harmony. Accordingly, no single individual can truly own any jish. The right to control jish is outlined by Navajo traditional laws, which vest this responsibility in Hataałii (Medicine persons). Hataałii are not owners of jish, but only care, utilize, and bequeath them for the Navajo people. The jish was discovered in the fill of a pithouse at the archeological site of Broken Flute Cave, but may have been intrusive from a later time period. According to information provided by traditional religious practitioners, jish have occasionally been placed in previously existing archeological contexts for safekeeping.

Officials of the U.S. Department of the Interior, Bureau of Indian Affairs, have determined, pursuant to 25 U.S.C. 3001(3)(C), that the cultural item described above is a specific ceremonial object needed by traditional Native American religious leaders for the practice of traditional Native American religions by their present-day adherents. Officials of the U.S. Department of the Interior, Bureau of Indian Affairs, also have determined, pursuant to 25 U.S.C. 3001(3)(D), that the cultural item described above has ongoing historical, traditional, or cultural importance central to the Native American group or culture itself, rather than property owned by an individual. Lastly, officials of the U.S. Department of the Interior, Bureau of Indian Affairs, have determined, pursuant to 25 U.S.C. 3001(2), that there is a relationship of shared group identity that can be reasonably traced between the sacred object/object of cultural patrimony and the Navajo Nation of Arizona, New Mexico and Utah.

Representatives of any other Indian tribe that believes itself to be culturally affiliated with the sacred object/object of cultural patrimony should contact Garry Cantley, Bureau of Indian Affairs, Western Regional Office, 2600 N. Central Ave., 12th floor, Phoenix, AZ 85004, telephone (602) 379-6750, ext.1256, before April 14, 2011. Repatriation of the sacred object/object of cultural patrimony to the Navajo Nation of Arizona, New Mexico and Utah may proceed after that date if no additional claimants come forward.

The U.S. Department of Interior, Bureau of Indian Affairs, is responsible for notifying the Navajo Nation of Arizona, New Mexico and Utah that this notice has been published.

Dated: March 9, 2011.
Sherry Hutt,
Manager, National NAGPRA Program.

[FR Doc. 2011-5848 Filed 3-14-11; 8:45 am]

BILLING CODE 4312-50-P